SECURITIES AND EXCHANGE COMMISSION

[Release No. 34-78601; File No. SR-NYSEArca-2016-113]

Self-Regulatory Organizations; NYSE Arca, Inc.; Notice of Filing and Immediate Effectiveness of Proposed Rule Change Extending the Pilot Period for the Exchange's Retail Liquidity Program

August 17, 2016.

Correction

In notice document 2016-20062, appearing on pages 57632-57634 in the Issue of Tuesday, August 23, 2016, make the following correction:

On page 57634, in the third column, beginning on the fifteenth line, the entry “September 12, 2016” should read “September 13, 2016”.

[FR Doc. C1-2016-20062 Filed 9-12-16; 11:15 am]

BILLING CODE 1505-01-D